INTERNATIONAL TRADE COMMISSION

[USITC SE-16-011]

Government in the Sunshine Act Meeting Notice

AGENCY HOLDING THE MEETING: United States International Trade Commission.

TIME AND DATE: April 5, 2016 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-462 and 731-TA-1156-1158 (Review) and 731-TA-1043-1045 (Second Review) (Polyethylene Retail Carrier Bags from China, Indonesia, Malaysia, Taiwan, Thailand, and Vietnam). The Commission is currently scheduled to complete and file its determinations and views of the Commission on April 18, 2016.

5. Outstanding action jackets: None.

In accordance with Commission policy, subject matter listed above, not disposed of at the scheduled meeting, may be carried over to the agenda of the following meeting.

By order of the Commission.
Issued: March 28, 2016.
William R. Bishop,
Supervisory Hearings and Information Officer.

[FR Doc. 2016-07358 Filed 3-29-16; 11:15 am]

BILLING CODE 7020-02-P